DEPARTMENT OF HOUSING AND URBAN DEVELOPMENT

[Docket No. FR-4451-N-06]

NOFA for Public Housing Drug Elimination Program Gun Buyback Violence Reduction Initiative; Notice of Amendment and Republication

AGENCY: Office of Public and Indian Housing, HUD.

ACTION: Notice of Amendment and Republication of Notice of Funding Availability (NOFA) for the Public Housing Drug Elimination Program (PHDEP) Gun Buyback Violence Reduction Initiative.

SUMMARY: The Department of Housing and Urban Development (HUD) is amending and republishing its Public Housing Drug Elimination Program Gun Buyback Violence Reduction Initiative NOFA (PHDEP Gun Buyback NOFA), published in the Federal Register of November 3, 1999 (64 FR 60080). The PHDEP Gun Buyback NOFA invited public housing authorities (PHAs) to direct FY 1999 PHDEP funds for use in gun buyback programs and made PHDEP set aside matching funds available. This amendment makes clear that while HUD's matching funds are to be drawn only from the FY 1999 PHDEP set aside, PHAs' expenditures are not restricted to FY 1999, but may come from PHDEP grant funds regardless of fiscal year. PHAs that have already applied under the November 3, 1999 NOFA need not re-apply but may seek additional funding.

DATES: Applications may be submitted at any time after publication of this notice. The application period is open until all FY 1999 PHDEP set aside matching funds are awarded. Eligible applications that comply with the requirements of this notice as well as those of the PHDEP Gun Buyback NOFA will be funded on a first-come, first-served basis to the extent that funding remains available.

ADDRESSES: To participate in this initiative and apply for funding, a PHA must submit an application to the U.S. Department of Housing and Urban Development, Grants Management Center, 501 School Street, SW, Suite 800, Washington, DC 20024, Attention: Gun Buyback Initiative. Applications may simply consist of a letter of request as long as it contains the information required by the this notice.

FOR FURTHER INFORMATION CONTACT: Marvin Klepper, Community Safety and Conservation Division, Office of Public and Indian Housing, Department of Housing and Urban Development, 451 Seventh Street, SW, Room 4206, Washington, DC 20410, telephone (202) 708-1197 x 4229. Hearing or speech-impaired individuals may access this number via TTY by calling the toll-free Federal Information Relay Service at 1-800-877-8339. Also, please see HUD's website at http://www.hud.gov/pih/legis/titlev.html for additional PHDEP information.

SUPPLEMENTARY INFORMATION: On November 3, 1999, at 64 FR 60080, HUD published the PHDEP Gun Buyback NOFA, which affirmed gun buybacks to be eligible activities under PHDEP; announced that PHAs could direct PHDEP funds for use in gun buyback programs; and pledged approximately $43.00 in FY 1999 PHDEP matching funds for every $100.00 a PHA spent towards gun buybacks. The source of the matching funds was the 1999 HUD Appropriations Act, which set aside $10,000,000 for “grants, technical assistance, contracts and other assistance, training, and program assessment and execution.” Approximately $4,500,000 of this $10,000,000 set aside amount was made available under the PHDEP Gun Buyback NOFA for the development, outreach, technical assistance, training, assessment and execution activities related to gun buyback violence reduction initiatives.

Now that HUD is issuing the formula allocation for FY 2000 PHDEP funding to local PHAs, the Department is hereby advising PHAs that they may devote a portion of these PHDEP grant funds to gun buyback violence reduction initiatives in cooperation with local law enforcement agencies, and that HUD will award a portion of the $4,500,000 in FY 1999 PHDEP set aside matching funds available for gun buyback violence reduction initiatives on a first-come, first-served basis until all these matching funds are awarded.

This notice amends the PHDEP Gun Buyback NOFA requirements to clarify that while HUD's matching funds are to be drawn only from the FY 1999 PHDEP set aside, PHAs may use PHDEP grant funds from any fiscal year (not merely FY 1999 or FY 1999) for gun buybacks. Applicants must still comply with all of the other application submission requirements as stated in the PHDEP Gun Buyback NOFA. For the convenience of applicants, the November 3, 1999 notice is republished below, amended consistent with the discussion above, and to reflect the new Executive Order on Federalism.

Amended PHDEP Gun Buyback NOFA

Accordingly, FR Doc. 99-28856, the Public Housing Drug Elimination Program Gun Buyback Violence Reduction Initiative NOFA (PHDEP Gun Buyback NOFA) published in the Federal Register on November 3, 1999 (64 FR 60800), is amended and republished as follows:

I. Authority

The Public Housing Drug Elimination Program is authorized under the Public and Assisted Housing Drug Elimination Act (42 U.S.C. 11901 et. seq).

II. Amount Allocated

Public Law 105-276 (the FY 1999 HUD Appropriations Act) appropriated $310,000,000 for the Public and Assisted Housing Drug Elimination Program. Of the total $310,000,000 appropriated for the Public and Assisted Housing Drug Elimination Program, the FY 1999 HUD Appropriations Act also set aside $10,000,000 for “grants, technical assistance, contracts and other assistance, training, and program assessment and execution”. Approximately $4,500,000 of this $10,000,000 set aside amount is being made available under this notice for the development, outreach, technical assistance, training, assessment and execution activities related to gun buyback violence reduction initiatives.

As discussed in this notice, HUD is encouraging PHAs to program FY 2000 funds or reprogram a portion of their PHDEP grant funds from previous fiscal years to implement and operate gun buyback violence reduction initiatives in cooperation with local law enforcement agencies. Under this notice, HUD will use the $4.5 million set aside amount described in the paragraph above to match up to $10.5 million of PHDEP grant funds that are programmed or reprogrammed to implement and operate gun buyback violence reduction initiatives. PHAs may request to use PHDEP funds for gun buyback violence reduction efforts until the available matching funds are exhausted. The Department will no longer approve PHA applications for further gun buyback violence reduction initiatives under this notice after the available matching funds have been awarded.

III. Background

With almost one gun for every man, woman and child, America is drowning today in a flood of guns and we're paying a heavy price for this proliferation, particularly in urban areas where much of public housing is located. In 1996, we lost more Americans to gunfire than we lost in the entire Korean War. Currently, over 600 people die in gun-related incidents in the U.S. each week. That's over 30,000 every year. This includes over 1,000 accidental deaths and over 18,000 suicides. Another 100,000 are injured annually in non-fatal shootings.

Our children pay the highest price. The rate of accidental shooting deaths for children under fifteen in the United States is nine times higher than the other 25 industrialized countries combined. And the great increase in suicides among teenagers and young adults in the past four decades has been mostly due to an increase in gun related suicides. Easy access to weapons is the single most overwhelming factor contributing to the high rate of gun deaths and injuries in this country.

In an effort to curtail the hazards of accidental shootings, suicides, the tragedies of domestic violence, the dangers of gun violence, and the devastating effects that often accompany such acts, police agencies and local community organizations around the country have created various types of gun buyback initiatives. Gun reduction efforts operate on the premise that accidental shootings, unintentional injuries, suicides and violent crimes can be reduced in communities if there are fewer weapons available with which to commit such acts. PHAs have an important role to play in the reduction of the number of guns and incidents of gun-related violence in our communities.

HUD is sponsoring the initiative announced in this notice through its Public Housing Drug Elimination Program to promote the cooperation of PHAs and local law enforcement agencies in conducting gun buyback initiatives aimed at reducing accidental or unintentional shootings, suicides, domestic violence and other forms of gun violence. HUD is inviting PHAs who are recipients of PHDEP funding to program or reprogram a portion of their PHDEP funding to implement gun reduction initiatives in their localities. To encourage the participation of PHAs in this initiative, HUD will provide a participating PHA with additional funding to increase the amounts available for gun buybacks and maximize the number of guns taken out of circulation, and for the development, outreach, technical assistance, training, assessment and execution activities related to gun buyback violence reduction initiatives. Funding being made available for this purpose will be equal to approximately 43 percent of the amount of PHDEP funding the PHA devotes to the gun buyback violence reduction initiative.

In addition to reducing the number of accidental shootings, suicides, domestic and gun violence, gun reductions efforts have other positive aspects for housing and community residents such as:

•Raising public consciousness about community safety and soliciting neighborhood participation in crime control efforts

•Acting as a visible deterrent to criminal activity

•Increasing police presence in communities

•Establishing stronger bonds between the community and the police, which might aid in more cooperative crime prevention and crime resolutions

•Increasing trust in the police on the part of the community

•Affording the community an active role in the fight against accidental shootings, suicides, domestic violence, violent crimes and firearm related criminal activity

•Involving community businesses as cosponsors of these programs, which could bring about more resources and publicity in support of the gun reduction efforts.

While these factors and reports of the success of gun buyback initiatives have been sufficiently favorable to encourage HUD to undertake this effort, the total amount of HUD assistance being devoted to this effort under this notice is capped at a total of $10.5 million PHDEP program funding, plus the additional matching $4.5 million. HUD will sponsor an independent assessment of this initial effort to more accurately and objectively determine the effectiveness of such initiatives before expanding this effort further. PHAs and local law enforcement agencies participating in the initiative under this notice may be contacted to participate in this assessment.

IV. Application Procedures and Requirements

A. General Overview

PHDEP funds are made available to a PHA to be used in a manner consistent with the PHA's PHDEP plan to address drug-related, violent and criminal activity in and around public housing. Therefore, to participate in this initiative, a PHA must program or reprogram a portion of the funds in its PHDEP plan for gun buyback violence reduction activities. Before funds are awarded under this notice, a PHA will have to submit a reprogramming request for HUD approval, or include a gun buyback initiative as part of its PHDEP plan. A PHA that has not yet submitted a PHDEP plan for FY 2000 formula funding but that wishes to participate in this initiative using FY 2000 funds may submit a letter of intent (or a “programming request”) that complies with the requirements of this notice. HUD will review each reprogramming request or letter of intent to program funds as it is received and upon approval of the request will authorize additional funding at a rate of approximately $43 for every $100 dollars of PHDEP funding that qualifies under this initiative. This represents an additional 43 percent of funding for the PHA's gun buyback violence reduction. HUD approval will consist of HUD signing off on the programming or reprogramming request and MOU (an executed agreement to carry out the gun buyback initiative) between the PHA and the local police, and, in the case of reprogramming, having HUD amend the PHDEP grant award to the PHA to support the gun reduction effort.

Because of the security issues involved, the gun buyback activities must be conducted by the local law enforcement agency. PHDEP funds for this gun reduction initiative fall under the categories of eligible PHDEP activities of “programs designed to reduce use of drugs in and around public or federally assisted low-income housing projects, including drug-abuse prevention, intervention, referral, and treatment programs”, as provided in 42 U.S.C. 11903(a)(6) and, under appropriate circumstances, reimbursement of local law enforcement agencies for additional security and protective services, as provided in 42 U.S.C. 11903(a)(2). Funds for buyback activities may not be drawn until the grantee has executed an agreement or Memorandum of Understanding for the additional law enforcement services. The full amount of PHDEP funds that are programmed or reprogrammed should be used for the actual buyback costs. HUD also strongly recommends that the additional 43 percent of funding made available be used for gun buyback costs to maximize the number of guns taken out of circulation.

In addition to the use of PHDEP funds and the additional funding made available under this NOFA, PHAs may and are encouraged to use funding from other sources, such as contributions from local government or the private sector, for their gun buyback/violence reduction initiatives. PHAs may, for example, negotiate with businesses in the community that vouchers exchanged for guns under the initiative provide an additional discount or value increase when redeemed at that business. PHAs and local law enforcement agencies are also strongly encouraged to seek out and obtain community cooperation and resources to leverage the costs of the development, outreach, technical assistance, training, assessment and execution activities related to the initiative, because a community-wide effort is likely to have the greatest positive impact.

B. Eligible Applicants

PHAs that are (1) recipients of PHDEP funding, (2) devoting a portion of that funding to gun buyback violence reduction initiatives, and (3) implementing their gun buyback initiatives in cooperation with local law enforcement agencies, as evidenced by letters of intent and executed agreement, may apply for a portion of the additional $4,500,000 matching funding under this notice.

C. Amount of Funding per Applicant

Consistent with this notice, HUD will permit a PHA to program or reprogram up to $500,000 of its PHDEP funding to gun buyback violence reduction initiatives. In addition to the amount programmed or reprogrammed, PHAs will receive an additional amount of funding equal to approximately 43 percent of the PHDEP dollars devoted to the gun buyback initiative.

D. Eligible Activities

Police conducting the buyback activity should accept for buyback firearms as defined under Federal, State or local law. The Federal law definition of a firearm is found at 18 U.S.C. 921(a)(3). In deference to local conditions and judgments, HUD will consider a wide range of gun buyback violence reduction activities, in accordance with the following:

1. Form of buyback exchange. HUD encourages these initiatives to offer gift certificates, food vouchers, certificates for merchandise such as toys, or other incentives of value to those who turn in guns, in addition to or in place of cash payments.

2. Amount of value per exchange. HUD suggests value equivalent to $50 of the HUD assistance provided to be offered for each gun exchanged. Additional value in the form of discounts or extra merchandise made available by businesses participating in the initiative may also be offered.

3. Site of gun buyback activities. While PHDEP activities must be planned to reduce drug-related, violent and criminal activity in or around the premises of public housing, perpetrators of gun violence are frequently non-resident predators of public housing. Gun buyback activities, therefore, do not need to be conducted on the PHA premises in order to be effective. However, it is anticipated that the gun reduction effort will have a noticeable impact on reducing the number of guns and the risk of unintentional shootings in the homes and communities of public housing residents.

4. Disposal of guns. Once the police collect the weapons from the buyback initiatives, the guns must be destroyed so as not to be put back into use or circulation, unless law enforcement needs call for another action, such as preservation of a gun as evidence or a determination of whether a gun was stolen or used in the commission of a crime. If a gun is determined to be stolen, it must be returned to its lawful owner. Guns may not be resold or exchanged for value, except in connection with their destruction and conversion to scrap; however, a gun determined to be a curio or relic under 27 CFR 178.11 may be donated to a State or Federal museum. Local law enforcement agencies will be required to include the following recovery, tracing and destruction procedures in their disposal of firearms obtained under this initiative:

(a) Certain firearms defined under the National Firearms Act (NFA), 26 U.S.C. 5845(a), e.g., short-barreled shotguns, generally must be registered with the Bureau of Alcohol, Tobacco, and Firearms (ATF). Local police will consult with the ATF where NFA firearms are surrendered in a buyback program.

(b) Local police will conduct a search of each surrendered firearm in the National Crime Information Center (NCIC).

(c) Where available, local police will test each surrendered firearm using an automated ballistics information system such as IBIS or DRUGFIRE.

(d) Where appropriate, certain surrendered firearms should be traced. For example, firearms possessed in violation of local law or ordinance, NFA firearms, firearms with an obliterated serial number, or firearms that are determined by local law enforcement to be associated with crime must be traced where possible.

E. Application Submission Requirements

Each application for funding under this notice must include the following:

1. A written statement briefly describing which activities in the PHA's PHDEP plan would be reprogrammed, and the resulting reprogrammed amount PHDEP funding to be used for the gun buyback reduction activities; or in the case of FY 2000 funding, the amount of FY 2000 funds to be programmed for a gun buyback initiative;

2. A brief description of the proposed gun buyback initiative, including the gun recovery, tracing, and destruction procedures that will be followed, in accordance with the requirements and guidelines of this notice;

3. Letters of intent. A letter of intent signed by the chief of the local law enforcement agency to conduct the gun buyback initiative in accordance with the description submitted, and a letter of intent from the chief executive officer (generally the mayor or county executive) of the unit of local government for the jurisdiction indicating the cooperation and support of the local jurisdiction.

F. Award Process

As HUD receives applications, it will log them in by date and time. HUD will notify each PHA applicant that it is eligible to reprogram or program its PHDEP funds in the amount indicated in the application until a total of $10.5 million of PHDEP funding has been designated eligible for this gun buyback initiative. Before additional funds are awarded, a PHA that is reprogramming activities will be required to submit its formal programming request describing which activities in the PHA's PHDEP plan are being reprogrammed, and the reprogrammed amount of PHDEP funding to be used for the gun buyback reduction activities. All PHAs must also submit an executed agreement with the local law enforcement agency to conduct the gun buyback initiative in accordance with the description in the programming or reprogramming request. Upon approval of a PHA's reprogramming request and executed agreement, HUD will award the additional 43 percent of funding through an amendment to the PHDEP grant agreement. Awards of the additional matching funds for FY 2000 applications will be made upon approval of the PHDEP plan and executed agreement. All grants to PHAs and their sub-grants to local law enforcement agencies are subject to the applicable administrative requirements for grants of 24 CFR part 85, including the monitoring and reporting program performance requirements of § 85.40 and the financial reporting requirements of § 85.41.

V. Certifications and Findings

Environmental Impact

This notice does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19(c)(1), this notice is categorically excluded from environmental review under the National Environmental Policy Act of 1969 (42 U.S.C. 4321).

Paperwork Reduction Act Statement

The information collection requirements for the Public Housing Drug Elimination Program were submitted to the Office of Management and Budget for review under the provisions of the Paperwork Reduction Act of 1995 (44 U.S.C. 3501-3520) and have been assigned OMB control number 2577-0124. An agency may not conduct or sponsor, and a person is not required to respond to, a collection of information unless the collection displays a valid control number.

Federalism, Executive Order 13132

Executive Order 13132 (entitled “Federalism”) prohibits, to the extent practicable and permitted by law, an agency from promulgating a regulation that has federalism implications and either imposes substantial direct compliance costs on State and local governments and is not required by statute, or preempts State law, unless the relevant requirements of section 6 of the Executive Order are met. This notice does not have federalism implications and does not impose substantial direct compliance costs on State and local governments or preempt State law within the meaning of the Executive Order.

Catalog of Domestic Assistance Number

The Catalog of Domestic Assistance number for the Public Housing Drug Elimination Program is 14.854.

Dated: January 28, 2000.
Harold Lucas,
Assistant Secretary for Public and Indian Housing.

[FR Doc. 00-2431 Filed 1-31-00; 4:50 pm]

BILLING CODE 4210-33-P